DEPARTMENT OF COMMERCE

Foreign-Trade Zones Board

[S-209-2020]

Foreign-Trade Zone 37—Orange County, New York; Application for Subzone; JJS Transportation and Distribution Co Inc Valley Stream, New York

An application has been submitted to the Foreign-Trade Zones (FTZ) Board by the County of Orange, grantee of FTZ 37, requesting subzone status for the facility of JJS Transportation and Distribution Co Inc, located in Valley Stream, New York. The application was submitted pursuant to the provisions of the Foreign-Trade Zones Act, as amended (19 U.S.C. 81a-81u), and the regulations of the FTZ Board (15 CFR part 400). It was formally docketed on November 25, 2020.

The proposed subzone (0.69 acres) is located at 145 Hook Creek Boulevard, Valley Stream, Nassau County, New York. No authorization for production activity has been requested at this time. The proposed subzone would be subject to the existing activation limit of FTZ 37.

In accordance with the FTZ Board's regulations, Elizabeth Whiteman of the FTZ Staff is designated examiner to review the application and make recommendations to the Executive Secretary.

Public comment is invited from interested parties. Submissions shall be addressed to the FTZ Board's Executive Secretary and sent to: ftz@trade.gov. The closing period for their receipt is January 13, 2021. Rebuttal comments in response to material submitted during the foregoing period may be submitted during the subsequent 15-day period to January 28, 2021.

A copy of the application will be available for public inspection in the “Reading Room” section of the FTZ Board's website, which is accessible via www.trade.gov/ftz.

For further information, contact Elizabeth Whiteman at Elizabeth.Whiteman@trade.gov.

Dated: November 30, 2020.
Andrew McGilvray,
Executive Secretary.

[FR Doc. 2020-26727 Filed 12-3-20; 8:45 am]

BILLING CODE 3510-DS-P